DEPARTMENT OF THE INTERIOR

Fish and Wildlife Service

50 CFR Part 20

[Docket No. FWS-HQ-MB-2024-0127; FXMB1231099BPP0-245-FF09M32000]

RIN 1018-BH65

Migratory Bird Hunting; Proposed 2025-26 Migratory Game Bird Hunting Regulations (Preliminary)

AGENCY: Fish and Wildlife Service, Interior.

ACTION: Proposed rule.

SUMMARY: The U.S. Fish and Wildlife Service (Service or we) proposes to establish hunting regulations for certain migratory game birds for the 2025-26 hunting season. Through an annual rulemaking process, we prescribe outside limits (which we refer to as frameworks) within which States may select hunting seasons. This proposed rule provides the regulatory schedule, describes the proposed regulatory alternatives for the 2025-26 general duck seasons, and provides preliminary proposals that vary from the 2024-25 hunting season regulations. Migratory bird hunting seasons provide opportunities for recreation and sustenance; aid Federal, State, and Tribal governments in the management of migratory game birds; and permit harvests at levels compatible with migratory game bird population status and habitat conditions.

DATES: Comments: You may comment on the general duck season regulatory alternatives, the process for authorizing annual hunting seasons, and other preliminary proposals for the 2025-26 season until February 20, 2025.

ADDRESSES: Comments: You may submit comments on the proposals by one of the following methods:

• Federal eRulemaking Portal: https://www.regulations.gov. Follow the instructions for submitting comments on Docket No. FWS-HQ-MB-2024-0127.

• U.S. mail: Public Comments Processing, Attn: FWS-HQ-MB-2024-0127; U.S. Fish and Wildlife Service; MS: PRB/3W; 5275 Leesburg Pike; Falls Church, VA 22041-3803.

We will not accept emailed or faxed comments. We will post all comments on https://www.regulations.gov. This generally means that your entire submission—including any personal identifying information—will be posted on the website. See Public Comments, below, for more information.

FOR FURTHER INFORMATION CONTACT: Jerome Ford, U.S. Fish and Wildlife Service, Department of the Interior, (703) 358-2606; jerome_ford@fws.gov. Individuals in the United States who are deaf, deafblind, hard of hearing, or have a speech disability may dial 711 (TTY, TDD, or TeleBraille) to access telecommunications relay services. Individuals outside the United States should use the relay services offered within their country to make international calls to the point of contact in the United States. For a summary of the proposed rule, please see the “rule summary document” in docket FWS-HQ-MB-2024-0127 on https://www.regulations.gov.

SUPPLEMENTARY INFORMATION:

Process for Establishing Annual Migratory Game Bird Hunting Regulations

Background

Migratory game birds are those bird species so designated in conventions between the United States and several foreign nations for the protection and management of these birds. Under the Migratory Bird Treaty Act (MBTA; 16 U.S.C. 703-712), the Secretary of the Interior is authorized to determine when “hunting, taking, capture, killing, possession, sale, purchase, shipment, transportation, carriage, or export of any such bird, or any part, nest, or egg” of migratory game birds can take place, and to adopt regulations for this purpose (16 U.S.C. 704(a)). These regulations are written after giving due regard to “the zones of temperature and to the distribution, abundance, economic value, breeding habits, and times and lines of migratory flight of such birds” (16 U.S.C. 704(a)) and are updated annually. This responsibility has been delegated to the Service as the lead Federal agency for managing and conserving migratory birds in the United States. However, migratory bird management is a cooperative effort of Federal, State, and Tribal governments.

The Service annually develops migratory game bird hunting regulations by establishing the frameworks, or outside limits, for season dates, season lengths, shooting hours, bag and possession limits, and areas where migratory game bird hunting may occur. These frameworks are necessary to allow harvest at levels compatible with migratory game bird population status and habitat conditions. After the frameworks are established, States may select migratory game bird hunting seasons within the frameworks. States may always be more conservative in their selections than the frameworks, but never more liberal. The annual process of developing migratory game bird hunting regulations concludes when we establish the State season selections as Federal regulations under 50 CFR part 20, subpart K.

Acknowledging regional differences in hunting conditions, the Service has administratively divided the United States into four Flyways for the primary purpose of managing migratory game birds. Each Flyway (Atlantic, Mississippi, Central, and Pacific) has a Flyway Council, a formal organization generally composed of one member from each State within the Flyway, as well as Provinces in Canada that share migratory bird populations with the Flyway. The Flyway Councils, established through the Association of Fish and Wildlife Agencies, also assist in researching and providing migratory game bird management information for Federal, State, Tribal, and Provincial governments, as well as private conservation entities and the general public.

Overview of the Rulemaking Process

The process for adopting migratory game bird hunting regulations, which are set forth at 50 CFR part 20, is constrained by three primary factors. Legal and administrative considerations dictate how long the rulemaking process will last. Most importantly, however, the biological cycle of migratory game birds controls the timing of data-gathering activities and thus the dates on which these results are available for consideration and deliberation.

For the regulatory cycle, Service biologists gather, analyze, and interpret biological survey data and provide this information to all those involved in the process through a series of published status reports and presentations to Flyway Councils and other interested parties. Because the Service is required to take abundance of migratory game birds and other factors into consideration, the Service undertakes a number of surveys throughout the year in conjunction with Service Regional Offices, the Canadian Wildlife Service, and State and Provincial wildlife-management agencies. To determine the appropriate frameworks for each species, we consider factors such as population size and trend, geographical distribution, annual breeding effort, condition of breeding and wintering habitat, number of hunters, and anticipated harvest.

Service Migratory Bird Regulations Committee Meetings

The Service Migratory Bird Regulations Committee (SRC) conducted an open meeting on May 17, 2024, to discuss preliminary issues for the 2025-26 regulations and will conduct another meeting in fall 2024 to review information on the current status of migratory game birds and develop recommendations for the 2025-26 hunting regulations for these species. In accordance with 50 CFR 20.153, these meetings are open to public observation, and observers may submit written comments to the Service on the matters discussed. These meetings are announced in the Federal Register or online on the Service's Migratory Bird Program website at https://www.fws.gov/event/us-fish-and-wildlife-service-migratory-bird-regulations-committee-meeting at least 2 weeks before the meeting date.

Rulemaking Process for the 2025-26 Season

This document is the first in a series of proposed and final rulemaking documents for migratory game bird hunting regulations. This document announces our intent to establish open hunting seasons for certain designated groups or species of migratory game birds for 2025-26 in the contiguous United States, Alaska, Hawaii, Puerto Rico, and the Virgin Islands, under §§ 20.101 through 20.107, 20.109, and 20.110 of 50 CFR part 20, subpart K. For the 2025-26 migratory game bird hunting season, we will propose regulations for certain designated members of the avian families Anatidae (ducks, geese, and swans); Columbidae (doves and pigeons); Gruidae (cranes); Rallidae (rails, coots, and gallinules); and Scolopacidae (woodcock and snipe).

The proposed regulatory alternatives for the 2025-26 duck hunting seasons are contained at the end of this document. We will publish additional proposals for public comment in the Federal Register as population, habitat, harvest, and other information become available. We annually publish definitions of flyways and management units and a description of the data used in and the factors affecting the regulatory process. This information will be included in proposed and final rules later in the regulations-development process (see 89 FR 41522, May 13, 2024, for the latest definitions and descriptions). Major steps in the 2025-26 regulatory cycle relating to open public meetings and Federal Register notifications are illustrated in the diagram at the end of this proposed rule. All publication dates of Federal Register documents are target dates. Our goal is to publish final regulatory alternatives for duck seasons and proposed season frameworks in winter 2024 and final season frameworks in spring 2025.

Subject Matter Organization

Sections of this and subsequent documents outlining hunting frameworks and guidelines are organized under numbered headings. These headings are:

1. Ducks

A. General Harvest Strategy

B. Regulatory Alternatives

C. Zones and Split Seasons

D. Special Seasons/Species Management

i. Early Teal Seasons

ii. Early Teal/Wood Duck Seasons

iii. Black Ducks

iv. Canvasbacks

v. Pintails

vi. Scaup

vii. Mottled Ducks

viii. Wood Ducks

ix. Eastern Mallards

x. Youth and Veterans-Active-Military-Personnel Hunting Days

xi. Mallard Management Units

xii. Other

2. Sea Ducks

3. Mergansers

4. Canada Geese

A. Special Early Seasons

B. Regular Seasons

C. Special Late Seasons

5. White-fronted Geese

6. Brant

7. Snow and Ross's (Light) Geese

8. Swans

9. Sandhill Cranes

10. Coots

11. Gallinules

12. Rails

13. Snipe

14. Woodcock

15. Band-tailed Pigeons

16. Doves

17. Alaska

18. Hawaii

19. Puerto Rico

20. Virgin Islands

21. Falconry

22. Other

This and subsequent documents will refer only to numbered items requiring attention at the time of publication. Because this and other documents will omit those items not requiring attention, the remaining numbered items may be discontinuous and the list may appear incomplete.

Potential New Process for Authorizing Annual Hunting Seasons

For subsequent documents concerning the 2025-26 hunting regulations for certain migratory game birds, we may publish the remaining proposed and final rulemaking documents as we have done for many years (i.e., by following the current rulemaking process). However, to improve the regulations development process, we are considering a new approach that would be based on a change in our administrative process. In the Spring 2024 Unified Agenda of Regulatory and Deregulatory Actions (see https://www.reginfo.gov), we announced that we are developing this new process, which would be published as a proposed rule under RIN 1018-BI04.

In brief, the new approach would involve codifying in regulations a new administrative process and our current provisions that change infrequently. By placing these provisions in regulations, we would no longer need to go through annual rulemaking to authorize annual migratory game bird hunting seasons. In the future, we would engage in rulemaking only when we have determined that changes to specific provisions in our regulations are appropriate and necessary.

We expect this new direction for our administrative process to increase efficiency, better meet State, Tribal, and Federal rulemaking constraints, and reduce complexity and costs in the promulgation of annual migratory game bird hunting regulations. Our goal is to better serve State and Tribal partners and the hunting public while continuing to meet the legal requirements of the Administrative Procedure Act (5 U.S.C. 551-559) and the conservation purposes of the MBTA. By eliminating annual rulemaking, the Service would save about $80,000 per year in printing costs, reduce staff workload by about 1,700 hours, reduce managerial workload of reviewing and surnaming documents by about 200 hours, and allow Federal limits to be established in the spring versus in the late summer, thereby providing States and Tribes more time for developing their annual regulations.

A National Hunting Regulations Working Group has been established that includes representatives from all four Flyway Councils to help develop and review this potential new process.

Tribal Regulations

As part of our effort to improve the annual rulemaking process, we published a final rule for migratory game bird hunting regulations on certain Federal Indian reservations and ceded lands on September 1, 2023 (88 FR 60375). Tribal migratory bird hunting regulations include guidelines for Tribes that want to establish migratory game bird hunting regulations on Federal Indian reservations (including off-reservation trust lands) and ceded lands through their own rulemaking process. Tribes are not required to submit a proposal to the Service for our review and approval. We established these regulatory guidelines in response to Tribal requests for our recognition of their reserved hunting rights, recognition of their Tribal sovereignty, and, for some Tribes, recognition of their authority to regulate hunting by both Tribal and nontribal members throughout their reservations. For inquiries on Tribal guidelines, Tribes should contact the address indicated under FOR FURTHER INFORMATION CONTACT.

Public Comments

The Department of the Interior's policy is, whenever practicable, to afford the public an opportunity to participate in the rulemaking process. Accordingly, we invite interested persons to submit written comments, suggestions, or recommendations regarding this proposed rule. We seek information and comments on the proposed regulatory alternatives for the 2025-26 general duck hunting seasons, other recommended changes or specific preliminary proposals that vary from the 2024-25 regulations, and issues requiring early discussion, action, or the attention of the States.

The Service believes that a 30-day comment period is warranted for this proposed rule, as subsequent Federal Register documents will allow the public to submit comments on the overall hunting frameworks (see Schedule of Biological Information Availability, Regulations Meetings, and Federal Register Publications for the 2025-26 Hunting Season at the end of this proposed rule for further information). For each subsequent proposed rule associated with this rulemaking action, we will establish a specific comment period. Before promulgation of final migratory game bird hunting regulations, we will take into consideration all comments we receive. We will summarize the comments received and publish responses to all proposals and written comments when we develop final frameworks for the 2025-26 season. Such comments, and any additional information we receive, may lead to final regulations that differ from the proposed rules.

You may submit your comments and materials concerning this proposed rule by one of the methods listed in ADDRESSES. We will not accept comments sent by email or fax or to an address not listed in ADDRESSES. Finally, we will not consider mailed comments that are not postmarked by the date specified in DATES. We will post all comments in their entirety—including your personal identifying information—on https://www.regulations.gov. Before including your address, phone number, email address, or other personal identifying information in your comment, you should be aware that your entire comment—including your personal identifying information—may be made publicly available at any time. While you can ask us in your comment to withhold your personal identifying information from public review, we cannot guarantee that we will be able to do so. Comments and materials we receive, as well as supporting documentation we used in preparing this proposed rule, will be available for public inspection on https://www.regulations.gov.

Required Determinations

National Environmental Policy Act (NEPA) Consideration

The programmatic document, “Second Final Supplemental Environmental Impact Statement: Issuance of Annual Regulations Permitting the Sport Hunting of Migratory Birds (EIS 20130139),” filed with the Environmental Protection Agency (EPA) on May 24, 2013, addresses NEPA compliance by the Service for issuance of the annual framework regulations for hunting of migratory game bird species. We published a notice of availability in the Federal Register on May 31, 2013 (78 FR 32686), and our Record of Decision on July 26, 2013 (78 FR 45376). We also address NEPA compliance for waterfowl hunting frameworks through the annual preparation of separate environmental assessments, the most recent being “Duck Hunting Regulations for 2024-25,” with its corresponding 2024 finding of no significant impact.

Endangered Species Act Consideration

Before issuance of the 2025-26 migratory game bird hunting regulations, we will comply with provisions of the Endangered Species Act of 1973, as amended (ESA; 16 U.S.C. 1531-1543), to ensure that hunting is not likely to jeopardize the continued existence of any species designated as endangered or threatened or adversely modify or destroy its critical habitat and is consistent with conservation programs for those species. Consultations under section 7 of the ESA may cause us to change proposals in future supplemental proposed rulemaking documents.

Regulatory Planning and Review—Executive Orders 12866, 13563, and 14094

Executive Order (E.O.) 14094 reaffirms and amends the principles of E.O. 12866 and E.O. 13563. E.O. 13563 emphasizes that regulations must be based on the best available science. The rulemaking process must allow for public participation and an open exchange of ideas; promote predictability and reduce uncertainty; identify and use the best, most innovative, and least burdensome tools for achieving regulatory ends; take into account benefits and costs, both quantitative and qualitative; and ensure that regulations are accessible, consistent, written in plain language, and easy to understand. E.O. 14094 states that regulatory analysis should facilitate agency efforts to develop regulations that serve the public interest and advance statutory objectives. As practicable and appropriate and to the extent permitted by law, regulatory analysis shall recognize distributive impacts and equity. To the extent practicable and consistent with applicable law, regulatory actions should be informed by input from interested or affected communities; State, local, territorial, and Tribal officials and agencies; interested or affected parties in the private sector and other regulated entities; those with expertise in relevant disciplines; and the public as a whole. We have developed this proposed rule in a manner consistent with these requirements.

E.O. 12866, as reaffirmed by E.O. 13563 and reaffirmed and amended by E.O. 14094, provides that the Office of Information and Regulatory Affairs (OIRA) in the Office of Management and Budget (OMB) will review all significant rules. This action is a “significant regulatory action,” as defined under section 3(f)(1) of E.O. 12866 (58 FR 51735, October 4, 1993), as amended by E.O. 14094 (88 FR 21879, April 11, 2023).

An economic analysis was prepared for the 2025-26 migratory bird hunting season. This analysis was based on data from the 2011 and the 2016 National Survey of Fishing, Hunting, and Wildlife-Associated Recreation (National Survey), the most recent years for which data are available. See discussion under Required Determinations, Regulatory Flexibility Act, below. This analysis estimated consumer surplus for four alternatives for hunting regulations. As defined by OMB in Circular A-4, consumers' surplus is the difference between what a consumer pays for a unit of a good or service and the maximum amount the consumer would be willing to pay for that unit. The duck hunting regulatory alternatives are (1) not opening a hunting season, (2) issuing restrictive regulations that allow fewer days than the 2024-25 season, (3) issuing moderate regulations that allow more days than in Alternative 2 but fewer days than the 2024-25 season, and (4) issuing liberal regulations that allow days similar to the 2024-25 season. The estimated consumer surplus associated with liberal regulations issued for the 2024-25 season across all flyways was $606 million to $797 million (2023$). We also chose Alternative 4 (liberal regulations) for the 2009-10 through 2023-24 seasons. The 2025-26 analysis is part of the record for this rulemaking action and is available at https://www.regulations.gov at Docket No. FWS-HQ-MB-2024-0127.

Regulatory Flexibility Act

The annual migratory bird hunting regulations have a significant economic impact on substantial numbers of small entities, such as restaurants, grocery stores, lodging, transportation, and sporting goods stores, under the Regulatory Flexibility Act (5 U.S.C. 601 et seq.). An initial regulatory flexibility analysis was prepared to analyze the economic impacts of the annual hunting regulations on small business entities. This analysis is updated annually. The primary source of information about hunter expenditures for migratory game bird hunting is the National Survey, which is generally conducted at 5-year intervals. The 2022 National Survey did not collect migratory bird expenditure data, so the 2025-26 migratory bird hunting season analysis is based on the 2011 and 2016 National Surveys and the U.S. Department of Commerce's County Business Patterns, from which it is estimated that migratory bird hunters will spend approximately $2.6 billion (2023$) at small businesses during the 2025-26 migratory bird hunting season. In summary, this proposed rule would have a significant beneficial economic impact on small entities. Without these annual regulations, States cannot establish migratory bird hunting seasons. A wide range of businesses and individuals benefit economically from the establishment of the annual migratory bird hunting regulations. The initial regulatory flexibility analysis can be found in the economic analysis of the migratory game bird hunting regulations for the 2025-26 season. Copies of the economic analysis are available upon request from the person listed above under FOR FURTHER INFORMATION CONTACT or from https://www.regulations.gov at Docket No. FWS-HQ-MB-2024-0127.

Clarity of the Rule

We are required by E.O. 12866 and 12988 and by the Presidential Memorandum of June 1, 1998, to write all rules in plain language. This means that each rule we publish must:

(a) Be logically organized;

(b) Use the active voice to address readers directly;

(c) Use clear language rather than jargon;

(d) Be divided into short sections and sentences; and

(e) Use lists and tables wherever possible.

If you feel that we have not met these requirements, send us comments by one of the methods listed in ADDRESSES. To better help us revise the rule, your comments should be as specific as possible. For example, you should tell us the numbers of the sections or paragraphs that are unclearly written, which sections or sentences are too long, the sections where you feel lists or tables would be useful, etc.

Paperwork Reduction Act

This proposed rule does not contain any new collection of information that requires approval by the Office of Management and Budget (OMB) under the Paperwork Reduction Act of 1995 (44 U.S.C. 3501 et seq.). OMB has previously approved the information collection requirements associated with migratory bird surveys and the procedures for establishing annual migratory bird hunting seasons under the following OMB control numbers:

• 1018-0019, “North American Woodcock Singing Ground Survey” (expires 02/28/2027).

• 1018-0023, “Migratory Bird Surveys, 50 CFR 20.20” (expires 05/31/2026). Includes Migratory Bird Harvest Information Program, Migratory Bird Hunter Surveys, Sandhill Crane Survey, and Parts Collection Survey.

• 1018-0171, “Establishment of Annual Migratory Bird Hunting Seasons, 50 CFR part 20” (expires 10/30/2027).

You may view the information collection request(s) at https://www.reginfo.gov/public/do/PRAMain. An agency may not conduct or sponsor, and a person is not required to respond to, a collection of information unless it displays a currently valid OMB control number.

Unfunded Mandates Reform Act

We have determined and certify, in compliance with the requirements of the Unfunded Mandates Reform Act, 2 U.S.C. 1501 et seq., that this proposed rulemaking does not include any Federal mandate that may result in the expenditure by State, local, and Tribal governments, in the aggregate, or by the private sector, of $100 million or more (adjusted for inflation) in any 1 year and does not significantly or uniquely affect small governments.

Civil Justice Reform—Executive Order 12988

The Department, in promulgating this proposed rule, has determined that this rulemaking will not unduly burden the judicial system and that it meets the requirements of sections 3(a) and 3(b)(2) of E.O. 12988.

Takings Implication Assessment—Executive Order 12630

In accordance with E.O. 12630, this proposed rule, authorized by the MBTA, does not have significant takings implications and does not affect any constitutionally protected property rights. This proposed rule would not result in the physical occupancy of property, the physical invasion of property, or the regulatory taking of any property. In fact, this proposed rule would allow hunters to exercise otherwise unavailable privileges and, therefore, reduces restrictions on the use of private and public property.

Energy Effects—Executive Order 13211

E.O. 13211 requires agencies to prepare statements of energy effects when undertaking certain actions. While this proposed rule is a significant regulatory action under E.O. 12866, it is not likely to have a significant adverse effect on the supply, distribution, or use of energy and has not been designated by OIRA as a significant energy action. Therefore, no statement of energy effects is required.

Government-to-Government Relationship With Tribes

In accordance with the President's memorandum of April 29, 1994, “Government-to-Government Relations with Native American Tribal Governments” (59 FR 22951), E.O. 13175, and 512 DM 2, we have evaluated possible effects on federally recognized Indian Tribes with respect to impacts to Tribes' treaty rights to hunt waterfowl. We have determined that there are de minimis effects on Indian Tribes for that aspect of their treaty rights. Through this process to establish annual hunting regulations, we regularly coordinate with Tribes that are affected by this proposed rulemaking action. Tribes have the opportunity to attend spring and fall flyway meetings, provide comments on Federal Register publications concerning migratory bird hunting, and, whenever needed, we hold informal consultations with Tribes regarding trust resources, trust assets, health, and safety. Also, while streamlining the migratory bird hunting regulation process, four informational webinars were held to present the new process to Tribes, giving Tribes the opportunity to provide input and to ask questions about the Tribal migratory bird hunting regulations. This proposed rule would not have substantial direct effects on one or more Indian Tribes, on the relationship between the Federal Government and Indian Tribes, or on the distribution of power and responsibilities between the Federal Government and Indian Tribes.

This proposed rule is general in nature and does not directly affect any specific Tribal lands, treaty rights, or Tribal trust resources. In addition, this proposed rule does not interfere with the ability of Tribes to manage themselves or their funds or to regulate migratory bird activities on Tribal lands. Therefore, we preliminarily conclude that this proposed rule does not have “Tribal implications” under section 1(a) of E.O. 13175 with respect to waterfowl treaty rights. Thus, formal government-to-government consultation is not required by E.O. 13175 and related policies of the Department of the Interior. We will continue to collaborate with Tribes on concerns related to migratory bird hunting regulations.

Federalism Effects—Executive Order 13132

Due to the migratory nature of certain species of birds, the Federal Government has been given responsibility over these species by the MBTA. We annually prescribe frameworks from which the States make selections regarding the hunting of migratory birds, and we employ guidelines to establish special regulations on Federal Indian reservations and ceded lands. This process preserves the ability of the States and Tribes to determine which seasons meet their individual needs.

Any State or Tribe may be more restrictive in its regulations than the Federal frameworks at any time. The frameworks are developed in a cooperative process with the States and the Flyway Councils. This process allows States to participate in the development of frameworks from which they will make selections, thereby having an influence on their own regulations. This proposed rule would not have substantial direct effects on the States, on the relationship between the national government and the States, or on the distribution of power and responsibilities among the various levels of government. Therefore, in accordance with E.O. 13132, these proposed regulations do not have federalism implications and do not warrant the preparation of a federalism summary impact statement.

List of Subjects in 50 CFR Part 20

Exports, Hunting, Imports, Reporting and recordkeeping requirements, Transportation, Wildlife.

Authority

The rules that eventually will be promulgated for the 2025-26 hunting season are authorized under 16 U.S.C. 703-712, and 742 a-j.

Shannon A. Estenoz,
Assistant Secretary for Fish and Wildlife and Parks.

Proposed 2025-26 Migratory Game Bird Hunting Regulations (Preliminary)

Pending current information on populations, harvest, and habitat conditions, and receipt of recommendations from the four Flyway Councils, we may defer specific regulatory proposals. Issues requiring early discussion, action, or the attention of the States or Tribes are described below.

1. Ducks

As mentioned earlier in this document, the categories used to discuss issues related to duck harvest management are: (A) General Harvest Strategy, (B) Regulatory Alternatives, (C) Zones and Split Seasons, and (D) Special Seasons/Species Management. Only those categories containing substantial recommendations (A, B, C, and D) are discussed below.

A. General Harvest Strategy

We will continue to use adaptive harvest management (AHM) to help determine appropriate duck-hunting regulations for the 2025-26 season. AHM is a tool that permits sound resource decisions in the face of uncertain regulatory impacts and provides a mechanism for reducing that uncertainty over time. We use an AHM protocol (decision framework) to evaluate four regulatory alternatives, each with a different expected harvest level, and choose the optimal regulation for duck hunting based on the status and demographics of mallards for the Mississippi, Central, and Pacific Flyways, and based on the status and demographics of a suite of four species (eastern waterfowl) in the Atlantic Flyway. We have specific AHM protocols that guide appropriate bag limits and season lengths for species of special concern, including black ducks, scaup, pintails, and mallards in the Atlantic Flyway (eastern mallards), within the general duck season. These protocols use the same outside season dates and lengths as those regulatory alternatives for the 2025-26 general duck seasons.

For the 2025-26 hunting season, we will continue to use independent optimizations to determine the appropriate regulatory alternative for mallard stocks in the Mississippi, Central, and Pacific Flyways and for eastern waterfowl in the Atlantic Flyway. This means that we will develop regulations for mid-continent mallards, western mallards, and eastern waterfowl independently based on the breeding stock that contributes primarily to each Flyway. We detailed implementation of AHM protocols for mid-continent and western mallards in the July 24, 2008, Federal Register (73 FR 43290), and for eastern waterfowl in the September 21, 2018, Federal Register (83 FR 47868).

B. Regulatory Alternatives

The basic structure of the current regulatory alternatives for AHM was adopted in 1997 (beginning with the 1997-98 general duck hunting season; 62 FR 31298, June 6, 1997). Beginning with the 2002-03 season, based upon recommendations from the Flyway Councils, we extended framework dates in the “moderate” and “liberal” regulatory alternatives by changing the opening date from the Saturday nearest October 1 to the Saturday nearest September 24, and by changing the closing date from the Sunday nearest January 20 to the last Sunday in January (67 FR 47224, July 17, 2002). These extended dates were made available with no associated penalty in season length or bag limits. Beginning with the 2019-20 season, we adopted a closing duck framework date of January 31 for the “moderate” and “liberal” alternatives in the Atlantic Flyway as part of the Atlantic Flyway's eastern waterfowl AHM protocol (83 FR 47868, September 21, 2018). We subsequently proposed to extend the framework closing date to January 31 across all four Flyways for the 2019-20 season (84 FR 16152, April 17, 2019).

The John D. Dingell, Jr. Conservation, Management, and Recreation Act of 2019 (Pub. L. 116-9, Dingell Act) amended the MBTA to establish that the closing framework date for duck seasons will be January 31, unless a flyway chooses an earlier closing date. Thus, as directed by the Dingell Act, we adjusted the framework closing date under each regulatory alternative for all four Flyways to January 31 beginning with the 2019-20 season (84 FR 42996, August 19, 2019). Beginning with the 2021-22 season, we agreed to move the opening framework date to 1 week earlier in the restrictive regulatory alternative for the Mississippi and Central Flyways based on their recommendations (85 FR 51854, August 21, 2020).

For the 2025-26 general duck season, we propose to use the same regulatory alternatives that are in effect for the 2024-25 season (see table at the end of this proposed rule for specifics of the regulatory alternatives). Alternatives are specified for each Flyway and are designated as “RES” for the restrictive, “MOD” for the moderate, and “LIB” for the liberal alternative. We plan to finalize AHM regulatory alternatives for the 2025-26 season in a proposed rule, which we plan to publish by winter 2024 (see Schedule of Biological Information Availability, Regulations Meetings, and Federal Register Publications for the 2025-26 Hunting Season at the end of this proposed rule for further information).

C. Zones and Split Seasons

Zones and split seasons are special regulations designed to distribute hunting opportunities and harvests according to temporal, geographic, and demographic variability in waterfowl and other migratory game bird populations. The Service has allowed the use of zones to provide equitable distribution of duck hunting opportunities within a State or region. The intent is not to increase total annual waterfowl harvest in the zoned areas; harvest levels are to be adjusted downward if they exceeded traditional levels as a result of zoning. In 1991, the Service developed guidelines to provide a framework for controlling the proliferation of zones and split seasons in duck hunting. Substantial concern remains about the unknown consequences of zones and split seasons on duck populations and harvest redistribution among States and flyways, potential reduced effectiveness of regulations (season length and bag limit) to reduce duck harvest if needed, and the administrative burden. The guidelines identified a limited number of zone and split-season configurations that could be used for duck hunting and restricted the frequency of changes in State selection among these configurations to the beginning of 5-year intervals.

The next opportunity for States to select zones and split-season configurations for duck hunting is in 2025 for the fixed period of 2026-2030 seasons. We are proposing to adopt the same zones and split-season guidelines and configurations for duck hunting as we used for the 2021-25 seasons. We discussed and presented guidelines and configurations for duck zones and split seasons during 2021-25 seasons in our August 21, 2020, final rule (85 FR 51854 at 51857-51858). For those States wishing to change zone and split-season configurations in time for the 2026-2030 seasons, we would need to receive configuration selections and zone descriptions by August 31, 2025.

We also note that when we adopted guidelines for duck zones and split seasons during 2021-25 seasons, we offered a new configuration (two zones with up to three season segments in each) at the request of the four Flyway Councils. We expressed our sensitivity to the States' desires for flexibility in addressing human dimensions concerns of the hunting public (i.e., foster hunter recruitment, retention, and satisfaction) despite our continued concerns about the proliferation of zones, impacts to harvest, regulation complexity, and administrative burden. Similarly, we revised the zones-splits guidelines for the 2011-2015 period to allow two new options (four zones with a continuous season, and three zones with up to two season segments in each) at the request of the four Flyway Councils (77 FR 23094 at 23100-23101, April 17, 2012). Because the two zones and three season segments configuration are new, we stated in 2020 (85 FR 51854 at 51857-51858, August 21, 2020) that States that select this configuration must conduct an evaluation of impacts to hunter dynamics (e.g., hunter numbers, satisfaction) and harvest during the fixed 5-year period it is implemented (e.g., 2021-25 period). Five States selected the new configuration for the 2021-25 period in two Flyways: Atlantic (Connecticut, Maryland, North Carolina, and Virginia) and Mississippi (Louisiana). These States will need to provide an evaluation through the 2025 season regardless of actual implementation.

D. Special Seasons/Species Management

v. Pintails

Over the past 5 years, scientists from the U.S. Geological Survey (USGS) and the Service, in consultation with the Flyway Councils, have collaborated on the development of a revised decision framework for pintail harvest management. The Flyway Councils and Service undertook the revision process due to several concerns about the current strategy (adopted in 2010; see 75 FR 44856 at 44860; July 29, 2010). Concerns included public desires for inclusion of a more liberal regulatory alternative (3-pintail daily bag limit), reliance on outdated modeling techniques and data, and communication challenges associated with the regulatory schedule. To address these concerns, the Service convened the national Pintail Working Group (PWG) composed of two representatives from each Flyway, the four Service Flyway Representatives, and technical experts from the Service and USGS.

The PWG evaluated pintail population and harvest dynamics, built new models using updated data and modern estimation methods, and developed and evaluated many alternative harvest strategies. An important change is that the model of predicted harvest includes an estimate of fall population size. This has an important effect on the harvest strategy because the expected harvest decreases with decreasing fall pintail population size. The strategy recognizes that there is sustainable harvest under conditions that were not previously thought sustainable. (i.e., expected increase in frequency of regulatory alternatives with liberal pintail daily bag limits including the possibility for 3 pintails).

In January 2024, after extensive consultation, the PWG proposed an interim harvest strategy to inform harvest management decisions for pintails and to learn about the effects of a 3-bird daily bag limit (new alternative) on management objectives. The interim strategy is intended to be implemented until three hunting seasons with a 3-bird daily bag limit have been realized (i.e., trial phase over three or more hunting seasons) with an additional allowance for 2 years for data collection and analysis, review of performance, and evaluation of updated alternative strategies. Evaluation results will be provided to the Flyway technical committees for consideration in the development of a proposed operational harvest strategy, which may or may not include an option for a 3-bird daily bag limit.

We greatly appreciate the time and attention over the last 5 years that the PWG has devoted to review and consideration of the current pintail harvest strategy, technical updates, and the various alternatives for implementing a derived pintail harvest strategy. The revised interim strategy addresses stakeholder concerns with the current strategy and includes important technical updates with implications for our harvest management policy. In compliance with the Information Quality Act (section 515 of Pub. L. 106-554) and Service policy, a scientific peer review of the interim harvest strategy model was completed in early May 2023; during that review, no technical issues or concerns were identified, and reviewer comments have been addressed. Therefore, we propose to adopt the interim harvest strategy for pintail harvest management as described by the PWG in their report entitled, “Proposed Interim Northern Pintail Harvest Strategy” dated February 9, 2024, beginning with the 2025-26 hunting seasons. The proposed interim pintail harvest strategy is available at the address indicated under FOR FURTHER INFORMATION CONTACT and at https://www.regulations.gov.

xii. Other

Although not part of any current harvest management strategy, we propose to allow South Dakota and Nebraska an additional year to conduct a pilot study during the 2025-26 duck season of a two-tier regulatory system as described in our March 19, 2020, proposed rule (85 FR 15870 at 15875-15876). The 2024-25 hunting season is the last year of the planned 4-year pilot study. A final report on the 4-year pilot study will be due to the Service after the 2024-25 hunting season in about May 2025, which is after proposals for 2025-26 hunting season are formulated (about October 2024) by the Service and Flyway Councils. The 1-year extension will allow the Service and Flyway Councils to evaluate the results of the pilot study in meeting the primary goal of increasing or stabilizing the number of waterfowl hunters before the subsequent 2026-27 hunting regulations are developed. If the pilot study results indicate there is merit, the Service and Flyway Councils will consider developing a phase-two study that considers application of the pilot study concepts at the Flyway or national level, rather than at the State level, which is consistent with the Service's policy on the scale of migratory game bird management.

The intent of the two-tier regulation study is to evaluate whether regulations that relax the requirement for hunters to identify duck species can improve waterfowl hunter recruitment and retention.¹ Declines in waterfowl hunter numbers have been of concern to the Service and the Flyway Councils, prompting the development of recruitment, retention, and reactivation efforts in the conservation community. The study allows a person to obtain one of two license types during the duck season. The first license type (tier 1) allows a daily bag limit as specified in the current duck regulations (six ducks) with species- and sex-specific daily bag limit restrictions for species of special concern. The second license type (tier 2) allows a daily bag limit of 3 ducks with no species- or sex-specific restrictions in the daily bag limit. A memorandum of agreement between the Service and the two States specifies the purpose of the study and the roles and responsibilities of each party while conducting the pilot study.

¹ The Service's primary goal is to ensure that waterfowl sport harvest management conforms to the MBTA and ensures the long-term conservation of bird populations. The various harvest strategies reflect this goal by ensuring that harvest does not exceed maximum sustainable yield (MSY). Secondarily to the MBTA, the Service has adopted policies to promote wildlife-based recreation, including migratory bird harvest. To the extent that management actions designed to promote hunter recruitment and retention do not result in harvest greater than the biological capacity of a population (i.e., does not exceed MSY), the Service deems these actions to be in accordance with the MBTA. Management actions that result in harvest equal to or less than MSY will result in stable or increasing populations and provide consumptive and nonconsumptive uses indefinitely.

16. Doves

Similar to duck hunting (see 1. Ducks, above), the Service has allowed the use of zones to provide equitable distribution of dove hunting opportunities within a State or region. The intent is not to increase total annual dove harvest in the zoned areas; harvest levels are to be adjusted downward if they exceed traditional levels as a result of zoning. In 2006, the Service developed guidelines to provide a framework for controlling the proliferation of zones and split seasons in dove hunting (see 71 FR 51406 at 51408, August 29, 2006). Substantial concern remains about the unknown consequences of zones and split seasons on dove populations and harvest redistribution among States and flyways, potential reduced effectiveness of regulations (season length and bag limit) to reduce dove harvest if needed, and the administrative burden. The guidelines identified a limited number of zone and split-season configurations that could be used for dove hunting and restricted the frequency of changes in State selection among these configurations to the beginning of a 5-year interval.

The next opportunity for States to select zones and split-season configurations for dove hunting is in 2025 for the fixed period of 2026-2030 seasons. We are proposing to adopt the same zones and split-season guidelines and configurations for dove hunting as we used for the 2021-25 seasons. We discussed and presented guidelines and configurations for dove zones and split seasons during 2021-25 seasons in the August 21, 2020, final rule (85 FR 51854 at 51865-51866). For those States wishing to change zone and split-season configurations in time for the 2026-2030 seasons, we would need to receive configuration selections and zone descriptions by August 31, 2025.

BILLING CODE 4333-15-P

[FR Doc. 2025-01319 Filed 1-17-25; 8:45 am]

BILLING CODE 4333-15-C